DEPARTMENT OF COMMERCE

International Trade Administration

[A-351-503, A-122-503, A-570-502]

Certain Iron Construction Castings From Brazil, Canada, and the People's Republic of China: Final Results of Expedited Fourth Sunset Reviews of Antidumping Duty Orders

AGENCY: Enforcement and Compliance, International Trade Administration, Department of Commerce.

SUMMARY: As a result of these sunset reviews, the Department of Commerce (“Department”) finds that revocation of the antidumping duty (“AD”) orders would be likely to lead to continuation or recurrence of dumping at the dumping margins identified in the “Final Results of Reviews” section of this notice.

DATES: Effective date: February 10, 2016.

FOR FURTHER INFORMATION CONTACT: Shanah Lee, AD/CVD Operations, Office III, Enforcement and Compliance, International Trade Administration, Department of Commerce, 1401 Constitution Avenue NW., Washington, DC 20230; telephone: (202) 482-6386, respectively.

SUPPLEMENTARY INFORMATION:

Background

On October 1, 2015, the Department published the notice of initiation of the fourth sunset reviews of the AD Orders ¹ on certain iron construction castings from Brazil, Canada, and the People's Republic of China (“PRC”), pursuant to section 751(c) of the Tariff Act of 1930, as amended (“the Act”).² On October 21, 2015, D&L Foundry, Inc., EJ USA, Inc. (formerly known as “East Jordan Iron Works, Inc.”), Neenah Foundry Company, and U.S. Foundry and Manufacturing Corp. (Petitioners) notified the Department of their intent to participate within the 15-day period specified in section 351.218(d)(1)(i) of the Department's regulations. The domestic interested parties claimed interested-party status under section 771(9)(C) of the Act as producers of a domestic like product in the United States.

¹ See Antidumping Duty Order; Iron Construction Castings From Brazil, 51 FR 17220 (May 9, 1986) (“Brazil ICC Order”); Antidumping Duty Order; Certain Iron Construction Castings From Canada, 51 FR 7600 (March 5, 1986), as amended by Iron Construction Castings From Canada; Amendment to Final Determination of Sales at Less Than Fair Value and Amendment to Antidumping Duty Order, 51 FR 34110 (September 25, 1986) (collectively, “Canada ICC Order”); and Antidumping Duty Order; Iron Construction Castings From the People's Republic of China, 51 FR 17222 (May 9, 1986) (“PRC ICC Order”) (collectively, “Orders”).

² See Initiation of Five-Year (“Sunset”) Reviews, 80 FR 59133 (October 1, 2015) (“Notice of Initiation”).

On November 2, 2015, the Department received complete substantive responses to the Notice of Initiation, with respect to the Orders, from Petitioners within the 30-day period specified in 19 CFR 351.218(d)(3)(i).³ The Department received no substantive responses from respondent interested parties. As a result, pursuant to section 751(c)(3)(B) of the Act and 19 CFR 351.218(e)(1)(ii)(C)(2), the Department has conducted expedited (120-day) sunset reviews of the antidumping duty orders on certain iron construction castings from Brazil, Canada, and the PRC.

³ See Submissions from Petitioners' to the Department, “Certain Iron Construction Castings From the People's Republic of China: Five-Year (“Sunset”) Review of Antidumping Duty Order” (“PRC Substantive Response”), “Iron Construction Castings From Brazil: Five-Year (“Sunset”) Review of Antidumping Duty Order—Petitioners' Substantive Response” (“Brazil Substantive Response”), and “Iron Construction Castings From Canada: Five-Year (“Sunset”) Review of Antidumping Duty Order—Petitioners' Substantive Response” (“Canada Substantive Response”), each dated November 2, 2015.

As explained in the memorandum from the Acting Assistant Secretary for Enforcement and Compliance, the Department has exercised its discretion to toll all administrative deadlines due to the recent closure of the Federal Government. All deadlines in this segment of the proceeding have been extended four business days.⁴

⁴ See Memorandum to the File from Ronald Lorentzen, Acting A/S for Enforcement & Compliance, “Tolling of Administrative Deadlines As a Result of the Government Closure During Snowstorm `Jonas',” dated January 27, 2016.

Scope of the Orders

Brazil

The merchandise covered by the order consists of certain iron construction castings from Brazil, limited to manhole covers, rings, and frames, catch basin grates and frames, cleanout covers and frames used for drainage or access purposes for public utility, water and sanitary systems, classifiable as heavy castings under Harmonized Tariff Schedule (HTS) item under 7325.10.0010; and to valve, service, and meter boxes which are placed below ground to encase water, gas, or other valves, or water and gas meters, classifiable as light castings under HTS item number 7325.10.0050. The HTS item numbers are provided for convenience and customs purposes only. The written product description remains dispositive.

Canada

The merchandise covered by the order consists of certain iron construction castings from Canada, limited to manhole covers, rings, and frames, catch basin grates and frames, clean-out covers, and frames used for drainage or access purposes for public utility, water and sanitary systems, classifiable as heavy castings under HTS item number 7325.10.0010. The HTS item number is provided for convenience and customs purposes only. The written product description remains dispositive.

PRC

The products covered by the order are certain iron construction castings from the PRC, limited to manhole covers, rings and frames, catch basin grates and frames, cleanout covers and drains used for drainage or access purposes for public utilities, water and sanitary systems; and valve, service, and meter boxes which are placed below ground to encase water, gas, or other valves, or water or gas meters. These articles must be of cast iron, not alloyed, and not malleable. This merchandise is currently classifiable under the HTS item numbers 7325.10.0010 and 7325.10.0050. The HTS item numbers are provided for convenience and customs purposes. The written product description remains dispositive.

Analysis of Comments Received

A complete discussion of all issues raised in these sunset reviews is provided in the accompanying Issues and Decision Memorandum, which is hereby adopted by this notice.⁵ The issues discussed in the Issues and Decision Memorandum include the likelihood of continuation or recurrence of dumping and the magnitude of the margins of dumping likely to prevail if the Orders were revoked. The Issues and Decision Memorandum is a public document and is on file electronically via Enforcement and Compliance's Antidumping and Countervailing Duty Centralized Electronic Service System (“ACCESS”). ACCESS is available to registered users at http://access.trade.gov and to all parties in the Central Records Unit, room B8024 of the main Department of Commerce building. In addition, a complete version of the Issues and Decision Memorandum can be accessed at http://enforcement.trade.gov/frn/. The signed Issues and Decision Memorandum and the electronic version of the Issues and Decision Memorandum are identical in content.

⁵ See the Department's memorandum from Christian Marsh, Deputy Assistant Secretary for Antidumping and Countervailing Duty Operations, to Paul Piquado, Assistant Secretary for Enforcement and Compliance, “Issues and Decision Memorandum for the Final Results of Expedited Fourth Sunset Reviews of the Antidumping Duty Orders on Certain Iron Construction Castings from Brazil, Canada, and the People's Republic of China,” dated concurrently with this notice.

Final Results of the Sunset Reviews

Pursuant to sections 751(c)(1) and 752(c)(1) and (3) of the Act, the Department determines that revocation of the antidumping duty orders on certain construction castings from Brazil, Canada, and the PRC would likely to lead to a continuation or recurrence of dumping, and that the magnitude of the dumping margins likely to prevail would be weighted-average margins up to 58.74 percent for Brazil, up to 25.52 percent for the PRC, and above de minimis for Canada.

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act and 19 CFR 351.218.

Dated: February 4, 2016.
Paul Piquado,
Assistant Secretary for Enforcement and Compliance.

[FR Doc. 2016-02699 Filed 2-9-16; 8:45 am]

BILLING CODE 3510-DS-P